DEPARTMENT OF TRANSPORTATION

Federal Aviation Administration

14 CFR Part 39

[Docket No. FAA-2013-0929; Directorate Identifier 2013-CE-031-AD]

RIN 2120-AA64

Airworthiness Directives; DG Flugzeugbau GmbH Gliders

AGENCY: Federal Aviation Administration (FAA), Department of Transportation (DOT).

ACTION: Notice of proposed rulemaking (NPRM).

SUMMARY: We propose to adopt a new airworthiness directive (AD) for any DG Flugzeugbau GmbH Model DG-1000T glider equipped with a Solo Kleinmotoren Model 2350 C engine that would revise AD 2013-22-14. This proposed AD results from mandatory continuing airworthiness information (MCAI) originated by an aviation authority of another country to identify and correct an unsafe condition on an aviation product. The MCAI describes the unsafe condition as engine shaft failure and consequent propeller detachment. We are issuing this proposed AD to require actions to address the unsafe condition on these products.

DATES: We must receive comments on this proposed AD by August 11, 2014.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC 20590, between 9 a.m. and 5 p.m., Monday through Friday, except Federal holidays.

For service information identified in this proposed AD, contact Solo Kleinmotoren GmbH, Postfach 60 01 52, D 71050 Sindelfingen, Germany; telephone: +49 07031-301-0; fax: +49 07031-301-136; email: aircraft@solo-germany.com; Internet: http://aircraft.solo-online.com/. You may view this referenced service information at the FAA, Small Airplane Directorate, 901 Locust, Kansas City, Missouri 64106. For information on the availability of this material at the FAA, call (816) 329-4148.

Examining the AD Docket

You may examine the AD docket on the Internet at http://www.regulations.gov by searching for and locating Docket No. FAA-2013-0929; or in person at the Docket Management Facility between 9 a.m. and 5 p.m., Monday through Friday, except Federal holidays. The AD docket contains this proposed AD, the regulatory evaluation, any comments received, and other information. The street address for the Docket Office (telephone (800) 647-5527) is in the ADDRESSES section. Comments will be available in the AD docket shortly after receipt.

FOR FURTHER INFORMATION CONTACT: Jim Rutherford, Aerospace Engineer, FAA, Small Airplane Directorate, 901 Locust, Room 301, Kansas City, Missouri 64106; telephone: (816) 329-4165; fax: (816) 329-4090; email: jim.rutherford@faa.gov.

SUPPLEMENTARY INFORMATION:

Comments Invited

We invite you to send any written relevant data, views, or arguments about this proposed AD. Send your comments to an address listed under the ADDRESSES section. Include “Docket No. FAA-2013-0929; Directorate Identifier 2013-CE-031-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

On October 24, 2013, we issued AD 2013-22-14, Amendment 39-17646 (78 FR 65869, November 4, 2013) (“AD 2013-22-14”). That AD required actions intended to address an unsafe condition on any DG Flugzeugbau GmbH Model DG-1000T glider equipped with a Solo Kleinmotoren Model 2350 C engine and was based on mandatory continuing airworthiness information (MCAI) originated by an aviation authority of another country.

Since we issued AD 2013-22-14, the manufacturer of the Solo Kleinmotoren Model 2350 C engine has developed an engine modification to restore engine operation.

The European Aviation Safety Agency (EASA), which is the Technical Agent for the Member States of the European Community, has issued AD No.: 2013-0217R1, dated May 5, 2014 (referred to after this as “the MCAI”), to correct an unsafe condition for the specified products. The MCAI states:

An occurrence of Solo 2350 C engine shaft failure and consequent propeller detachment was reported. The preliminary investigation revealed that the failed shaft was earlier modified in accordance with an approved method.

This condition, if not corrected, could lead to additional cases of release of the propeller from the engine, possibly resulting in damage to the sailplane, or injury to persons on the ground.

To address this potential unsafe condition, EASA issued Emergency AD 2013-0217-E to prohibit operation of the engine.

Since that AD was issued, Solo Kleinmotoren GmbH developed a modification consisting of installing an improved eccenter axle-pulley assembly, allowing to resume operation of the engine.

For the reason described above, this AD is revised to incorporate the optional modification, cancelling the operational restriction.

You may examine the MCAI on the Internet at http://www.regulations.gov by searching for and locating Docket No. FAA-2013-0929.

Relevant Service Information

Solo Kleinmotoren GmbH issued Technische Mitteilung Service Bulletin Nr. 4603-14, dated April 28, 2014. The actions described in this service information are intended to correct the unsafe condition identified in the MCAI.

FAA's Determination and Requirements of the Proposed AD

This product has been approved by the aviation authority of another country, and is approved for operation in the United States. Pursuant to our bilateral agreement with this State of Design Authority, they have notified us of the unsafe condition described in the MCAI and service information referenced above. We are proposing this AD because we evaluated all information and determined the unsafe condition exists and is likely to exist or develop on other products of the same type design.

Costs of Compliance

We estimate that this proposed AD will affect 2 products of U.S. registry. We also estimate that it would take about .5 work-hour per product to comply with the proposed retained requirement of placing a copy of AD 2013-22-14 into the Limitations section of the aircraft flight manual, which prohibits engine operation. The average labor rate is $85 per work-hour.

Based on these figures, we estimate the cost of this proposed retained requirement on U.S. operators to be $85, or $42.50 per product.

In addition, we estimate that the optional engine modification would take about 1.5 work-hours and require parts costing $100, for a cost of $227.50. If both products of U.S. registry incorporated the engine modification, the cost of the proposed modification on U.S. operators would be $455.

If the engine modification is done, it would also take about .5 work-hour per product to remove the engine operation restriction (copy of AD 2013-22-14) from the Limitations section of the aircraft flight manual. The average labor rate is $85 per work-hour, for a cost of $42.50 per product.

According to the manufacturer, some of the costs of this proposed AD may be covered under warranty, thereby reducing the cost impact on affected individuals. We do not control warranty coverage for affected individuals.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. Amend § 39.13 by removing Amendment 39-17646 (78 FR 65869, November 4, 2013), and adding the following new AD:

DG Flugzeugbau GmbH: Docket No. FAA-2013-0929; Directorate Identifier 2013-CE-031-AD.

(a) Comments Due Date

We must receive comments by August 11, 2014.

(b) Affected ADs

This AD revises AD 2013-22-14, Amendment 39-17646 (78 FR 65869, November 4, 2013) (“AD 2013-22-14”).

(c) Applicability

This AD applies to DG Flugzeugbau GmbH Model DG-1000T gliders, all serial numbers, that are:

(1) Equipped with a Solo Kleinmotoren Model 2350 C engine; and

(2) certificated in any category.

(d) Subject

Air Transport Association of America (ATA) Code 72: Engine.

(e) Reason

This AD was prompted by mandatory continuing airworthiness information (MCAI) originated by an aviation authority of another country to identify and correct an unsafe condition on an aviation product. The MCAI describes the unsafe condition as engine shaft failure and consequent propeller detachment. We are issuing this AD to prevent engine shaft failure and propeller detachment, which could result in damage to the glider and injury to persons on the ground.

(f) Actions and Compliance

Unless already done, do the following actions in paragraphs (f)(1) through (f)(4) of this AD.

(1) As of November 25, 2013 (the effective date retained from AD 2013-22-14), do not operate the engine unless the engine is modified following instructions that are approved by the FAA specifically for AD 2013-22-14. Contact the FAA office identified in paragraph (g)(1) of this AD to get more information about obtaining such instructions.

(2) As of November 25, 2013 (the effective date retained from AD 2013-22-14), place a copy of AD 2013-22-14 or this AD into the Limitations section of the aircraft flight manual (AFM).

(3) To remove the prohibited engine operation requirement in paragraph (f)(1) of this AD, modify the engine as specified in the Actions paragraph of Solo Kleinmotoren GmbH Technische Mitteilung Service Bulletin Nr. 4603-14, dated April 28, 2014, unless already modified with FAA-approved instructions as specified in paragraph (f)(1) of this AD.

Note 1 to paragraph (f)(3) of this AD: This service information contains German to English translation. The European Aviation Safety Agency (EASA) used the English translation in referencing the document. For enforceability purposes, we will refer to the Solo Kleinmotoren GmbH service information as the title appears on the document.

(4) Prior to further flight after modifying the engine as specified in paragraph (f)(1) or paragraph (f)(3) of this AD, remove the engine operation restriction (copy of AD 2013-22-14) from the Limitations section of the AFM.

(g) Other FAA AD Provisions

The following provisions also apply to this AD:

(1) Alternative Methods of Compliance (AMOCs): The Manager, Standards Office, FAA, has the authority to approve AMOCs for this AD, if requested using the procedures found in 14 CFR 39.19. Send information to ATTN: Jim Rutherford, Aerospace Engineer, FAA, Small Airplane Directorate, 901 Locust, Room 301, Kansas City, Missouri 64106; telephone: (816) 329-4165; fax: (816) 329-4090; email: jim.rutherford@faa.gov. Before using any approved AMOC on any glider to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(h) Related Information

Refer to MCAI EASA AD No.: 2013-0217R1, dated May 5, 2014, for related information. You may examine the MCAI on the Internet at http://www.regulations.gov by searching for and locating Docket No. FAA-2013-0929. For service information related to this AD, contact Solo Kleinmotoren GmbH, Postfach 60 01 52, D 71050 Sindelfingen, Germany; telephone: +49 07031-301-0; fax: +49 07031-301-136; email: aircraft@solo-germany.com; Internet: http://aircraft.solo-online.com. You may view this referenced service information at the FAA, Small Airplane Directorate, 901 Locust, Kansas City, Missouri 64106. For information on the availability of this material at the FAA, call (816) 329-4148.

Issued in Kansas City, Missouri, on June 19, 2014.
Timothy Smyth,
Acting Manager, Small Airplane Directorate, Aircraft Certification Service.

[FR Doc. 2014-15058 Filed 6-26-14; 8:45 am]

BILLING CODE 4910-13-P